DEPARTMENT OF JUSTICE

Antitrust Division

Notice Pursuant to the National Cooperative Research and Production Act Of 1993—Telemanagement Forum

Notice is hereby given that, on February 14, 2008, pursuant to Section 6(a) of the National Cooperative Research and Production Act of 1993, 15 U.S.C. 4301 et seq. (“the Act”), TeleManagement Forum (“the Forum”) filed written notifications simultaneously with the Attorney General and the Federal Trade Commission disclosing changes in its membership. The notifications were filed for the purpose of extending the Act's provisions limiting the recovery of antitrust plaintiffs to actual damages under specified circumstances. Specifically, Applied Broadband, Inc., Boulder, CO; Architecting-theEnterprise, High Wycombe, Buckinghamshire, UNITED KINGDOM; ANGELA Technologies, Istanbul, TURKEY; Arismore, Saint-Cloud Cedex, FRANCE; Astellia, Vern sur Seiche Cedex, FRANCE; Avistas, Irving, TX; Blue River Management (Pty) Ltd; Bryanston, Gauteng, SOUTH AFRICA; Brix Networks, Chelmsford, MA; BSK Consulting GmbH, Dietzenbach, GERMANY; BTG, Driebergen, NETHERLANDS; Cablecom GmbH, Zurich, SWITZERLAND; Cellex Networks Systems (2007) Ltd, Bne Braq, ISRAEL; Centina Systems, Inc., Richardson, TX; Comservice Networks Pty Ltd, Melbourne, Victoria, AUSTRALIA; Conexion SA, Asunción, PARAGUAY; Cordys Inc., San Jose, CA; CRC-Pinnacle Consulting Co., Ltd, Beijing, PEOPLE'S REPUBLIC OF CHINA; Customer One Solutions, Inc., Cornelius, NC; CYPRUS TELECOMMUNICATIONS AUTHORITY (CYTA), Nicosia, CYPRUS; Dataupia, Cambridge, MA; Defence Science & Technology Agency, Singapore, SINGAPORE; Dynamic Design Ltd, Wels, AUSTRIA; Elders Telecommunications Pty Ltd, Adelaide, South Australia, AUSTRALIA; eServGlobal SAS, Malakov, Paris, FRANCE; Everware-CBDI Inc., Fairfax, VA; FBBT, Belfast, County Antrim, IRELAND; Fernbrook Services, Montrose, Victoria, AUSTRALIA; Fiberhome Telecommunication Technologies Co. Ltd, Wuhan, HuBei, PEOPLE'S REPUBLIC OF CHINA; Gartner, Stamford, CT; GIP AG, Mainz, GERMANY; globeOSS, Shah Alam, Selangor, MALAYSIA; Gurulab.org, Caracas, Miranda, VENEZUELA; Hisashi Tada, Setagaya, Tokyo, JAPAN; Hitachi Software Engineering Co., Ltd, Shinagawa-ku, Tokyo, JAPAN; Hitachi Telecom, Norcross, GA; i3Services, Ltd, St. Petersburg, RUSSIA; Inca Informatics Pvt. Ltd (INCA), Noida, Uttar Pradesh, INDIA; Inline Telecom Solutions, Moscow, RUSSIA; International Engineering Consortium, Chicago, IL; Keste, LLC, Piano, TX; Letograf, Moscow, RUSSIA; Liberty Cablevision of Puerto Rico Ltd, Luguillo, PUERTO RICO; Liberty Global Inc., Englewood, CO; Lyse Tele AS, Stavanger, NORWAY; MAGNA CONSULT, Miami, FL; MegaFon JSC, Moscow, RUSSIA; MOBIK d.o.o., Ljubljana, SLOVENIA; MTS Alistream Inc., Winnipeg, Manitoba, CANADA; Narus, Inc., Mountain View, CA; NetAge Solutions GmbH, Muenchen, GERMANY; Nomos Software, Cork, IRELAND; Nordisk Mobiltelefon Sverige AB, Tby, Stockholm, SWEDEN; Northwestel Inc., Whitehorse, Yukon, CANADA; 02 (Germany) GmbH, Munich, Bavaria, GERMANY; 02 (Ireland), Dublin, IRELAND; O2UK, Slough, Berkshire, UNITED KINDGOM; Objective Systems Integrators, Rosevilie, CA; Optima Soft, Korolev, RUSSIA; OSSEra, Inc. 1, Davis, CA; PEAK8 SOLUTIONS, Boulder, CO; PETER-SERVICE, St. Petersburg, RUSSIA; PricewaterhouseCoopers LLP, London, UNITED KINGDOM; QATAR TELECOM (Qtel), Doha, QATAR; Real Time Engineering Limited, Glasgow, Lanarkshire, UNITED KINGDOM; Reliance Communications Limited, Navi Mumbai, Maharashtra, INDIA; Ronanki Infotech Private Ltd, Bangalore, Karnataka, INDIA; RTC ARGUS, St. Petersburg, RUSSIA; Servista Ltd, London, UNITED KINGDOM; SevenTest R&D Centre Co., Ltd, St. Petersburg, RUSSIA; Siemens AG, Vienna, AUSTRIA; SK Telecom Co. Ltd. Jung-gu, Seoul, REPUBLIC OF KOREA; Strata Group Inc., St. Louis, MO; Sunrise Telecom Sri., Modena, ITALY; Telecom Egypt, Giza, EGYPT; Telecominvest, Kyiv, UKRAINE; TeleSciences, Inc., Mount Laurel, NJ; Telesoft-Russia, Moscow, RUSSIA; The OpenNMS Group, Inc., Pittsboro, NC; TracAutomation Systems Inc., St-Laurent, Quebec, CANADA; Turk Telekomünikasyon A.S., Ankara, TURKEY; University of Bonn, GERMANY; University of Otago, Dunedin, Otago, NEW ZEALAND; Venteio Bedrift AS, Oslo, NORWAY; VTR GlobalCom S.A., Santiago, Region Metropolitana, CHILE; Westwood One/Metro Networks, New York, NY; Xalted Information Systems Pvt Ltd, Bangalore, Karnataka, INDIA; XO Communications, Reston, VA; and ZAO RENOVA-MEDIA Enterprises Ltd, Moscow, RUSSIA have been added as parties to this venture.

Also, 24 Online Oy, Espoo, FINLAND; ADVA Optical Networking Inc., Mahwah, NJ; AdvancedVOIP. com, Islamabad, PAKISTAN; ArtinSoft LLC, Herndon, VA; Casabyte, Inc., Renton, WA; CellC, Johannesburg, Gauteng, SOUTH AFRICA; CIML Inc., Montreal, Quebec, CANADA; COLT Telecom Group plc, London, UNITED KINGDOM; CSG Systems Inc., Englewood, CO; DynamicCity, Lindon, UT; Evolved Networks, Ipswich, Suffolk, UNITED KINGDOM; Fortinet, Inc., Sunnyvale, CA; Globetom, Highveld, Centurion, SOUTH AFRICA; InterSystems, Eton, Windsor, UNITED KINGDOM; IPDR.org, Friday Harbor, WA; Jernbaneverket/ITN, Hamar, NORWAY; José Ricardo Formagio Bueno, Campinas, Sao Paulo, BRAZIL; Leapstone Systems, Somerset, NJ; Logan-Orviss International, Valbonne, FRANCE; Mermarsat Limited, Harpenden, UNITED KINGDOM; Metrocom Inc., Miami, FL; Millennium Information Technologies Ltd, Kaduwela, Western, SRI LANKA; Netsure Telecom Ltd. Dublin 12, Leinster, IRELAND; Northrop Grumman, Los Angeles, CA; OKB Telecom, Moscow, RUSSIA; OperTune Ltd. Oxford, Oxfordshire, UNITED KINGDOM; OSS Terrace, Cupertino, CA; OT/partners, Glen Echo, MD; Raavi Consulting Services, Hyderabad, Andhra Pradesh, INDIA; S2Net, Melbourne, Victoria, AUSTRALIA; Sigos GmbH, Nurnberg, GERMANY; Simpler Networks, Inc., Dorval, Quebec, CANADA; telconvergence GmbH, Olching, GERMANY; Telecommunications Division, Sacramento, CA; Tiscali International Network, Utrecht, NETHERLANDS; TMNG, Hilton Head Island, SC; Toyo Business Engineering Corp., Narashino, Chiba, JAPAN; Virgin Media, Hook, Hampshire, UNITED KINGDOM; Virgin Mobile, Trowbridge, Wiltshire, UNITED KINGDOM; WeDo Technologies, Lisbon, PORTUGAL; Wireless Maingate Nordic AB, Karlskrona, SWEDEN and World Wide Packets, Veradale, WA, have withdrawn as parties to this venture.

The following members have changed their names: Graftor Media Production Oy to AinaCom Oy; Amdocs to Arndocs Systems Europe Limited; Cellex to Cellex Networks System Ltd; Concept Wave Software to ConceptWave Software; Cordys Inc to Cordys Inc.; Ernst & Young (CIS) E.V. to Ernest & Young Global Telecom Center; Fastwire Pte Ltd to Fastwire; Personal to Hisashi Tada; Jacobs Rimell to JacobsRimell; Kabira Technology to Kabira Technologies; LHS to LHS Telekommunikation GmbH & Co.; Orishatech to OT/Partners; Pricewaterhouse Coopers UK to PricewaterhouseCoopers LLP; PSI AG to PSI Transcom GmbH; Ronannki Infotech Private Ltd to Ronanki Infotech Private Ltd; <<SevenTest R&D Centre>> Co. Ltd to SevenTest R&D Centre Co. Ltd; SITRONICS Telecom Solutions to SITRONICS TS, CZ; Avici Systems Inc. to Soapstone Networks; Tele Design Servicos E Comércio De Telecomunicoes to Teleconex Comércio e Services em Tel Campinas; Telconex Comércio e Servicios em Telecommunicoes LTDA ME to Teleconex Comércio e Services em Tel Campinas; TeleManagement Forum to TM Forum; Praesidium Services Ltd to WeDo Technologies; Westwood One, Inc., to Westwood One/Metro Networks and TIM Hellas to Wind Hellas Telecommunications SA.

The following members have changed their addresses: AinaCom Oy to Hämeenlinna, FINLAND; Atos Origin to Paris La Defense Cedex, Paris, FRANCE; Digital Fairway Corporation to Toronto, Ontario, CANADA; FBBT to Belfast, County Antrim, IRELAND; LHS Telekommunikation GmbH & Co. KG to 60528 Frankfurt am Main, GERMANY; Reliance Communications Limited to Navi Mumbai, Maharashtra, INDIA; Revenue Protect Limited to Hatfield, Hertfordshire, UNITED KINGDOM; SaskTel to Regina, Saskatchewan, CANADA; Softline to Kiev, UKRAINE; Telephone and Data Systems, Inc. to Chicago, IL; Teistra Corporation to Melbourne, Victoria, AUSTRALIA and TrueBaseline Corporation to Pittsburgh, PA.

No other changes have been made in either the membership or planned activity of the group research project. Membership in this group research project remains open, and the Forum intends to file additional written notifications disclosing all changes in membership.

On October 21, 1988, the Forum filed its original notification pursuant to Section 6(a) of the Act. The Department of Justice published a notice in the Federal Register pursuant to Section 6(b) of the Act on December 8, 1988 (53 FR 49615).

The last notification was filed with the Department on August 7, 2007. A notice was published in the Federal Register pursuant to Section 6(b) of the Act on November 7, 2007 (72 FR 62869)

Patricia A. Brink,
Deputy Director of Operations, Antitrust Division.

[FR Doc. E8-7981 Filed 4-15-08; 8:45 am]

BILLING CODE 4410-11-M